DEPARTMENT OF AGRICULTURE

Forest Service

Request for Applications: The Community Forest and Open Space Conservation Program

AGENCY: Forest Service, USDA.

ACTION: Request for applications.

SUMMARY: The U.S. Department of Agriculture, Forest Service, State and Private Forestry, Cooperative Forestry staff, requests applications for the Community Forest and Open Space Conservation Program (Community Forest Program or CFP). This is a competitive grant program whereby local governments, qualified nonprofit organizations, and Indian tribes are eligible to apply for grants to establish community forests through fee simple acquisition of private forest land from a willing seller. The purpose of the program is to establish community forests by protecting forest land from conversion to non-forest uses and provide community benefits such as sustainable forest management, environmental benefits including clean air, water, and wildlife habitat; benefits from forest-based educational programs; benefits from serving as models of effective forest stewardship; and recreational benefits secured with public access.

Eligible lands for grants funded under this program are private forest that is at least five acres in size, suitable to sustain natural vegetation, and at least 75 percent forested. The lands must also be threatened by conversion to non-forest uses, must not be held in trust by the United States on behalf of any Indian Tribe, must not be Tribal allotment lands, must be offered for sale by a willing seller, and if acquired by an eligible entity, must provide defined community benefits under CFP and allow public access.

DATES: Interested local government and nonprofit applicants must submit applications to the State Forester. Tribal applicants must submit applications to the appropriate Tribal government officials. All applications, either hardcopy or electronic, must be received by State Foresters or Tribal governments by January 13, 2017. State Foresters or Tribal government officials must forward applications to the Forest Service Region, Northeastern Area or International Institute of Tropical Forestry by February 17, 2017.

ADDRESSES: All local government and qualified nonprofit organization applications must be submitted to the State Forester of the State where the property is located. All Tribal applications must be submitted to the equivalent Tribal government official. Applicants are encouraged to contact and work with the Forest Service Region, Northeastern Area or International Institute of Tropical Forestry, and State Forester or equivalent Tribal government official when developing their proposal. Applicants must consult with the State Forester and equivalent Tribal government official prior to requesting technical assistance for a project. The State Forester's member roster may be found on www.stateforesters.org/about/who-we-are. All applicants must also send an email to communityforest@fs.fed.us to confirm an application has been submitted for funding consideration.

State Foresters and Tribal government officials shall submit applications, either electronic or hardcopy, to the appropriate Forest Service Regional/Area/Institute contact noted below.

Northern and Intermountain Regions

Regions 1 and 4

(ID, MT, ND, NV, UT)

Janet Valle, U.S. Forest Service, 324 25th St., Ogden, UT 84401, 801-625-5258 (phone), 801-625-5716 (fax), jvalle@fs.fed.us.

Rocky Mountain Region

Region 2

(CO, KS, NE, SD, WY)

Claire Harper, U.S. Forest Service, 740 Simms Street, Golden, CO 80401, 303-895-6157 (phone), 303-275-5754 (fax), claireharper@fs.fed.us.

Southwestern Region

Region 3

(AZ, NM)

Alicia San Gil, U.S. Forest Service, 333 Broadway SE., Albuquerque, NM 87102, 505-842-3289 (phone), 505-842-3165 (fax), agsangil@fs.fed.us.

Pacific Southwest Region

Region 5

(CA)

Paula Randler, U.S. Forest Service, 1323 Club Drive, Vallejo, CA 94592, 707-562-8875 (phone), 707-562-9054 (fax), pbrandler@fs.fed.us.

(Hawaii, Guam, American Samoa, Federated States of Micronesia and other Pacific Islands)

Katie Friday, 60 Nowelo St., Hilo, HI 96720, 808-854-2620 (phone), 503-808-2469 (fax), kfriday@fs.fed.us.

Pacific Northwest, and Alaska Regions

Regions 6 and 10

(AK, OR, WA)

Brad Siemens, U.S. Forest Service, 120 Southwest 3rd Ave., Portland, OR 97204, 503-808-2353 (phone), 503-808-2469 (fax), btsiemens@fs.fed.us.

Southern Region

Region 8

(AL, AR, FL, GA, KY, LA, MS, NC, OK, SC, TN, TX, VA)

Mike Murphy, U.S. Forest Service, 1720 Peachtree Rd. NW., Suite 700B 850S North, Atlanta, GA 30309, 404-347-5214 (phone), 404-347-2776 (fax), mwmurphy@fs.fed.us.

International Institute of Tropical Forestry

(PR, VI)

Magaly Figueroa, U.S. Forest Service, Jardin Botanico Sur, 1201 Calle Ceiba, San Juan, PR 00926-1119, 787-764-7718 (phone), 787-766-6263 (fax), mafigueroa@fs.fed.us.

Northeastern Area

(CT, DC, DE, IA, IL, IN, MA, MD, ME, MI, MN, MO, NH, NJ, NY, OH, PA, RI, VT, WI, WV)

Neal Bungard, U.S. Forest Service, 271 Mast Road, Durham, NH 03824-4600, 603-868-7719 (phone), 603-868-7604 (fax), nbungard@fs.fed.us.

FOR FURTHER INFORMATION: For questions regarding the grant application or administrative regulations, contact Scott Stewart, Program Coordinator, 202-205-1618, sstewart@fs.fed.us.

Individuals who use telecommunication devices for the deaf (TDD) may call the Federal Relay Service (FRS) at 1-800-877-8339 twenty-four hours a day, every day of the year, including holidays.

SUPPLEMENTARY INFORMATION: CFDA Number 10.689: To address the goals of Section 7A of the Cooperative Forestry Assistance Act of 1978 (16 U.S.C. 2103d) as amended, the Forest Service is requesting proposals for community forest projects that protect forest land that has been identified as a national, regional, or local priority for protection and to assist communities in acquiring forestland that will provide public recreation, environmental and economic benefits, and forest-based educational programs.

Detailed information regarding what to include in the application, definitions of terms, eligibility, and necessary prerequisites for consideration can be found in the final program rule, published October 20, 2011 (76 FR 65121-65133), which is available at www.fs.fed.us/spf/coop/programs/loa/cfp.shtml and at www.grants.gov (Opportunity number CFP-FS-1002017).

Grant Application Requirements

1. Eligibility Information

a. Eligible Applicants. A local governmental entity, Indian Tribe (including Alaska Native Corporations), or a qualified nonprofit organization that is qualified to acquire and manage land (see § 230.2 of the final rule). Individuals are not eligible to receive funds through this program.

b. Cost Sharing (Matching Requirement). All applicants must demonstrate a 50 percent match of the total project cost. The match can include cash, in-kind services, or donations, which shall be from a non-Federal source. For additional information, please see § 230.6 of the final rule at www.fs.fed.us/spf/coop/programs/loa/cfp.shtml.

c. DUNS Number. All applicants shall include a Data Universal Numbering System (DUNS) number in their application. For this requirement, the applicant is the entity that meets the eligibility criteria and has the legal authority to apply for and receive the grant. For assistance in obtaining a DUNS number at no cost, call the DUNS number request line 1-866-705-5711 or register on-line at http://fedgov.dnb.com/webform.

d. System for Award Management. All prospective awardees shall be registered in the System for Award Management prior to award, during performance, and through final payment of any grant resulting from this solicitation. Further information can be found at www.sam.gov. For assistance, contact Federal Service Desk 1-866-606-8220.

2. Award Information

The Administration proposed to fund the CFP at $2 million for fiscal year 2017. Individual grant applications may not exceed $400,000, which does not include technical assistance requests. The Federal Government's obligation under this program is contingent upon the availability of appropriated funds.

No legal liability on the part of the Government shall be incurred until funds are committed by the grant officer for this program to the applicant in writing. The initial grant period shall be for two years, and acquisition of lands should occur within that timeframe. Lands acquired prior to the grant award are not eligible for CFP funding. The grant may be reasonably extended by the Forest Service when necessary to accommodate unforeseen circumstances in the land acquisition process. Written annual financial performance reports and semi-annual project performance reports shall be required and submitted to the appropriate grant officer.

Technical assistance funds, totaling not more than 10 percent of all funds, may be allocated to State Foresters and equivalent officials of the Indian tribe. Technical assistance, if provided, will be awarded at the time of the grant. Applicants shall work with State Foresters and equivalent officials of the Indian Tribe to determine technical assistance needs and include the technical assistance request in the project budget.

As funding allows, applications submitted through this request may be funded in future years, subject to the availability of funds and the continued feasibility and viability of the project.

3. Application Information

Application submission. All local governments and qualified nonprofit organizations' applications must be submitted to the State Forester where the property is located by January 13, 2017. All Tribal applications must be submitted to the equivalent Tribal officials by January 13, 2017. Applications may be submitted either electronic or hardcopy to the appropriate official. The State Forester's contact information may be found at http://www.fs.fed.us/spf/coop/programs/loa/cfp.shtml.

All applicants must also send an email to communityforest@fs.fed.us to confirm an application has been submitted to the State Forester or equivalent Tribal official for funding consideration.

All State Foresters and Tribal government officials must forward applications to the Forest Service by February 17, 2017.

4. Application Requirements

The following section outlines grant application requirements:

a. The application can be no more than eight pages long, plus no more than two maps (eight and half inches by eleven inches in size), the grant forms specified in (b), and the draft community forest plan specified in (d).

b. The following grant forms and supporting materials must be included in the application:

(1) An Application for Federal Assistance (Standard Form 424);

(2) Budget information (Standard Form SF 424c—Construction Programs); and

(3) Assurances of compliance with all applicable Federal laws, regulations, and policies (Standard Form 424d— Construction Programs).

c. Documentation verifying that the applicant is an eligible entity and that the land proposed for acquisition is eligible (see § 230.2 of the final rule).

d. Applications must include the following, regarding the property proposed for acquisition:

(1) A description of the property, including acreage and county location;

(2) A description of current land uses, including improvements;

(3) A description of forest type and vegetative cover;

(4) A map of sufficient scale to show the location of the property in relation to roads and other improvements as well as parks, refuges, or other protected lands in the vicinity;

(5) A description of applicable zoning and other land use regulations affecting the property;

(6) A description of the type and extent of community benefits, including to underserved communities (see selection criteria);

(7) A description of relationship of the property within and its contributions to a landscape conservation initiative; and

(8) A description of any threats of conversion to non-forest uses, including any encumbrances on the property that prevent conversion to non-forest uses.

e. Information regarding the proposed establishment of a community forest, including:

(1) A description of the benefiting community, including demographics, and the associated benefits provided by the proposed land acquisition;

(2) A description of community involvement to-date in the planning of the community forest acquisition and of community involvement anticipated long-term management;

(3) An identification of persons and organizations that support the project and their specific role in establishing and managing the community forest; and

(4) A draft community forest plan. The eligible entity is encouraged to work with the State Forester or equivalent Tribal government official for technical assistance when developing or updating the Community Forest Plan. In addition, the eligible entity is encouraged to work with technical specialists, such as professional foresters, recreation specialists, wildlife biologists, or outdoor education specialists, when developing the Community Forest Plan.

f. Information regarding the proposed land acquisition, including:

(1) A proposed project budget not exceeding $400,000 and technical assistance needs as coordinated with the State Forester or equivalent Tribal government official (section § 230.6 of the final program rule);

(2) The status of due diligence, including signed option or purchase and sale agreement, title search, minerals determination, and appraisal;

(3) Description and status of cost share (secure, pending, commitment letter, etc. (section § 230.6 of the final rule);

(4) The status of negotiations with participating landowner(s) including purchase options, contracts, and other terms and conditions of sale;

(5) The proposed timeline for completing the acquisition and establishing the community forest; and;

(6) Long term management costs and funding source(s).

g. Applications must comply with the United States Department of Agriculture's Administrative Requirements, Cost Principles, and Audit Requirements for Federal Awards also referred to as the Omni Circular (2 CFR 400).

h. Applications must also include the forms required to process a Federal grant. Section 6 Grant Requirements references the grant forms that must be included in the application and the specific administrative requirements that apply to the type of Federal grant used for this program.

A sample grant outline and scoring guidance can be found on the CFP Web site at: http://www.fs.fed.us/spf/coop/programs/loa/cfp.shtml.

5. Forest Service's Project Selection Criteria

a. Using the criteria described below, to the extent practicable, the Forest Service will give priority to applications that maximize the delivery of community benefits, as defined in the final rule (see section § 230.2 of the final rule); and

b. The Forest Service will evaluate all applications received by the State Foresters or equivalent Tribal government officials and award grants based on the following criteria:

(1) Type and extent of community benefits provided, including to underserved communities. Community benefits are defined in the final program rule as:

(i) Economic benefits, such as timber and non-timber products;

(ii) Environmental benefits, including clean air and water, stormwater management, and wildlife habitat;

(iii) Benefits from forest-based experiential learning, including K-12 conservation education programs; vocational education programs in disciplines such as forestry and environmental biology; and environmental education through individual study or voluntary participation in programs offered by organizations such as 4-H, Boy or Girl Scouts, Master Gardeners, etc.;

(iv) Benefits from serving as replicable models of effective forest stewardship for private landowners; and

(v) Recreational benefits such as hiking, hunting and fishing secured through public access.

(2) Extent and nature of community engagement in the establishment and long-term management of the community forest;

(3) Amount of cost share leveraged;

(4) Extent to which the community forest contributes to a landscape conservation initiative;

(5) Extent of due diligence completed on the project, including cost share committed and status of appraisal;

(6) Likelihood that, unprotected, the property would be converted to non-forest uses; and

(7) Costs to the Federal Government.

6. Grant Requirements

a. Once an application is selected, funding will be obligated to the grant recipient through a grant.

b. Local and Indian Tribal governments should refer to 2 CFR part 225, Cost Principles for State, Local, and Indian Tribal Governments (OMB Circular A-87) and 7 CFR part 3016 (Uniform Administrative Requirements for Grants and Cooperative Agreements to State and Local Governments) for directions.

c. Nonprofit organizations should refer to 2 CFR part 215 Uniform Administrative Requirements for Grants and Other Agreements with Institutions of Higher Education, Hospitals and Other Nonprofit Organizations (OMB Circular A-110) and 7 CFR part 3019 Uniform Administrative Requirements for Grants and Cooperative Agreements with Institutions of Higher Education, Hospitals, and other Nonprofit Organizations for directions.

d. Forest Service must approve any amendments to a proposal or request to reallocate funding within a grant proposal. If negotiations on a selected project fail, the applicant cannot substitute an alternative site.

e. The grant recipient must comply with the requirements in section § 230.8 in the final rule before funds will be released.

f. After the project has closed, as a requirement of the grant, grant recipients will be required to provide the Forest Service with a Geographic Information System (GIS) shapefile: A digital, vector-based storage format for storing geometric location and associated attribute information, of CFP project tracts and cost share tracts, if applicable.

g. Any funds not expended within the grant period must be de-obligated and revert to the Forest Service.

h. All media, press, signage, and other documents discussing the creation of the community forest must reference the partnership and financial assistance by the Forest Service through the CFP.

Additional information may be found in section § 230.9 of the final rule.

Dated: September 19, 2016.
Debra S. Pressman,
Acting Deputy Chief, State and Private Forestry.

[FR Doc. 2016-25334 Filed 10-19-16; 8:45 am]

BILLING CODE 3411-15-P